DEPARTMENT OF THE INTERIOR

Fish and Wildlife Service

[FWS-R9-IA-2008-N0290; 96300-1671-0000-P5]

Receipt of Applications for Permit

AGENCY: Fish and Wildlife Service, Interior.

ACTION: Notice of receipt of applications for permit.

SUMMARY: The public is invited to comment on the following applications to conduct certain activities with endangered species.

DATES: Written data, comments or requests must be received by December 1, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Michael A. Jarvis, Oregon Health and Science University, Portland, OR,PRT-190313

The applicant requests a permit to acquire fibroblast cell cultures from one female captive born gorilla (Gorilla gorilla) in interstate commerce from Coriell Cell Repository, Camden, NJ, for the purpose of scientific research. This notification covers the one-time acquisition only.

Applicant: Fred H. Gage, Salk Institute for Biological Studies, San Diego, CA, PRT-191132

The applicant requests a permit to acquire fibroblast cell cultures from one male captive born chimpanzee (Pan troglodytes) and one male and one female bonobo (Pan paniscus) in interstate commerce from Coriell Cell Repository, Camden, NJ, for the purpose of scientific research. This notification covers the one-time acquisition only.

Applicant: Sherry V. Nelson, Department of Anthropology, University of New Mexico, Albuquerque, NM, PRT-194491

The applicant requests a permit to import powdered tooth enamel from chimpanzees (Pan troglodytes) found dead in the wild in Uganda, for the purpose of scientific research. This notification covers the one-time importation only.

Applicant: Wildlife Conservation Society, Bronx, NY, PRT-195916

The applicant requests a permit to export two male and two female captive born Western gorillas (Gorilla gorilla) to the Calgary Zoo, Canada for the purpose of enhancement of the species through captive breeding and conservation education.

Applicant: University of Florida, Florida Museum of Natural History, Gainesville, FL, PRT-193170

The applicant requests a permit to import specimens from endangered Crocodilian species from various museums and scientific institutions around the world for the purpose of scientific research. This notification covers activities to be conducted by the applicant over a five-year period.

Applicant: Kenneth E. Buch, Silver Spring, MD, PRT-193458

The applicant requests a permit to import the sport-hunted trophy of one male bontebok (Damaliscus pygargus pygargus) culled from a captive herd maintained under the management program of the Republic of South Africa, for the purpose of enhancement of the survival of the species.

Applicant: David Clemente, Laredo, TX, PRT-195244

The applicant requests a permit to import the sport-hunted trophy of one male bontebok (Damaliscus pygargus pygargus) culled from a captive herd maintained under the management program of the Republic of South Africa, for the purpose of enhancement of the survival of the species.

Applicant: Wesley E. Hixon, Wildwood, GA, PRT-195911

The applicant requests a permit to import the sport-hunted trophy of one male bontebok (Damaliscus pygargus pygargus) culled from a captive herd maintained under the management program of the Republic of South Africa, for the purpose of enhancement of the survival of the species.

Applicant: Trent B. Latshaw, Tulsa, OK, PRT-196067

The applicant requests a permit to import the sport-hunted trophy of one male bontebok (Damaliscus pygargus pygargus) culled from a captive herd maintained under the management program of the Republic of South Africa, for the purpose of enhancement of the survival of the species.

Applicant: Roger D. Barker, Birmingham, AL, PRT-196611

The applicant requests a permit to import the sport-hunted trophy of one male bontebok (Damaliscus pygargus pygargus) culled from a captive herd maintained under the management program of the Republic of South Africa, for the purpose of enhancement of the survival of the species.

Applicant: Russell C. Murphy, Little Rock, AR, PRT-196610

The applicant requests a permit to import the sport-hunted trophy of one male bontebok (Damaliscus pygargus pygargus) culled from a captive herd maintained under the management program of the Republic of South Africa, for the purpose of enhancement of the survival of the species.

Applicant: Gary L. Joeris, San Antonio, TX, PRT-196633

The applicant requests a permit to import the sport-hunted trophy of one male bontebok (Damaliscus pygargus pygargus) culled from a captive herd maintained under the management program of the Republic of South Africa, for the purpose of enhancement of the survival of the species.

Applicant: Robert W. Barnes, San Antonio, TX, PRT-195287

The applicant requests a permit to import the sport-hunted trophy of one male bontebok (Damaliscus pygargus pygargus) culled from a captive herd maintained under the management program of the Republic of South Africa, for the purpose of enhancement of the survival of the species.

Applicant: Raymond M. Waters, III, Columbus, MS, PRT-196478

The applicant requests a permit to import the sport-hunted trophy of one male bontebok (Damaliscus pygargus pygargus) culled from a captive herd maintained under the management program of the Republic of South Africa, for the purpose of enhancement of the survival of the species.

Dated: October 17, 2008.
Lisa J. Lierheimer,
Senior Permit Biologist, Branch of Permits, Division of Management Authority.

[FR Doc. E8-25921 Filed 10-29-08; 8:45 am]

BILLING CODE 4310-55-P